DEPARTMENT OF COMMERCE

Foreign-Trade Zones Board

[B-38-2023]

Foreign-Trade Zone (FTZ) 163, Notification of Proposed Production Activity; Puerto Rico Steel Products Corporation; (Construction and Fencing Products); Coto Laurel, Puerto Rico

Puerto Rico Steel Products Corporation submitted a notification of proposed production activity to the FTZ Board (the Board) for its facility in Coto Laurel, Puerto Rico within Subzone 163L. The notification conforming to the requirements of the Board's regulations (15 CFR 400.22) was received on June 8, 2023.

Pursuant to 15 CFR 400.14(b), FTZ production activity would be limited to the specific foreign-status material/component and specific finished product described in the submitted notification (summarized below) and subsequently authorized by the Board. The benefits that may stem from conducting production activity under FTZ procedures are explained in the background section of the Board's website—accessible via www.trade.gov/ftz. The proposed finished product and material/component would be added to the production authority that the Board previously approved for the operation, as reflected on the Board's website.

The proposed finished product is galvanized chain link fence with PVC coating (duty rate is duty-free).

The proposed foreign-status material/component is galvanized wire with PVC coating (duty rate is duty-free). The request indicates that the material/component is subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is July 24, 2023.

A copy of the notification will be available for public inspection in the “Online FTZ Information System” section of the Board's website.

For further information, contact Juanita Chen at juanita.chen@trade.gov.

Dated: June 8, 2023.
Elizabeth Whiteman,
Executive Secretary.

[FR Doc. 2023-12690 Filed 6-13-23; 8:45 am]

BILLING CODE 3510-DS-P